DEPARTMENT OF LABOR

Employment and Training Administration

[TA-W-55,680]

Seneca Foods Corporation, Dayton, WA; Notice of Termination of Investigation

Pursuant to Section 221 of the Trade Act of 1974, as amended, an investigation was initiated on September 24, 2004 in response to a petition filed by a company official on behalf of workers at Seneca Foods Corporation, Dayton, Washington.

The petitioner has requested that the petition be withdrawn. Consequently, the investigation has been terminated.

Signed in Washington, DC, this 30th day of September 2004.
Elliott S. Kushner,
Certifying Officer, Division of Trade Adjustment Assistance.

[FR Doc. E4-2699 Filed 10-15-04; 8:45 am]

BILLING CODE 4510-30-P